DEPARTMENT OF DEFENSE

Defense Acquisition Regulations System

48 CFR Part 252

[Docket DARS-2024-0032]

RIN 0750-AM22

Defense Federal Acquisition Regulation Supplement: 8(a) Program (DFARS Case 2024-D025)

AGENCY: Defense Acquisition Regulations System, Department of Defense (DoD).

ACTION: Proposed rule; withdrawal.

SUMMARY: DoD is withdrawing the proposed rule to amend the Defense Federal Acquisition Regulation Supplement (DFARS) for the case titled: 8(a) Program (DFARS Case 2024-D025). Accordingly, this proposed rule is withdrawn, and the DFARS case is closed.

DATES: The proposed rule published on October 10, 2024, at 89 FR 82196 is withdrawn as of July 18, 2025.

FOR FURTHER INFORMATION CONTACT: Jennifer D. Johnson, telephone 703-717-8226.

SUPPLEMENTARY INFORMATION: DoD published a proposed rule in the Federal Register on October 10, 2024, at 89 FR 82196 to revise the DFARS to align with changes made to the Federal Acquisition Regulation (FAR) via the final rules published in the Federal Register on August 11, 2021 (86 FR 44233) and on September 23, 2022 (87 FR 58219). The final rule for FAR Case 2016-011, Revision of Limitations on Subcontracting, published on August 11, 2021, standardized the application of the nonmanufacturer rule requirements for the socioeconomic programs identified at FAR 19.000(a)(3). The final rule for FAR Case 2017-019, Policy on Joint Ventures, published on September 23, 2022, clarified the eligibility of joint ventures under the 8(a) Program.

DoD also proposed to amend the DFARS to align with the proposed rule for FAR Case 2021-020, Limitations on Subcontracting, published on January 17, 2024 (89 FR 2910). This FAR rule proposed to remove the nonmanufacturer rule requirements for 8(a) participants from FAR 19.809-2, as was intended to be accomplished via the final rule published on August 11, 2021, and to remove the kit assembler rule set from the nonmanufacturer rule. DoD proposed to make similar changes in the DFARS.

Executive Order 14275, Restoring Common Sense to Federal Procurement, requires that the FAR be amended to ensure it contains only provisions that are required by statute or that are necessary to support simplicity and usability, strengthen the efficacy of the procurement system, or protect economic or national security interests. Amendments to the FAR resulting from this Executive Order may drive revisions to the DFARS. Accordingly, the proposed rule is withdrawn and DFARS Case 2024-D025 is closed.

List of Subjects in 48 CFR Part 252

Government procurement.

Jennifer D. Johnson,
Editor/Publisher, Defense Acquisition Regulations System.

[FR Doc. 2025-13520 Filed 7-17-25; 8:45 am]

BILLING CODE 6001-FR-P